DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer at (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: Federally Qualified Health Centers (FQHC) Application Forms: (OMB No. 0915-0285 Revisions)

HRSA's Bureau of Primary Health Care Federally Qualified Health Centers (FQHCs) are a major component of America's health care safety net, the Nation's “system” of providing health care to low-income and other vulnerable populations. Health Centers care for people regardless of their ability to pay and whether or not they have health insurance. They provide primary and preventive health care, as well as services such as transportation and translation. Many Health Centers also offer dental, mental health and substance abuse care.

FQHC's are administered by the Health Resources and Services Administration's (HRSA) Bureau of Primary Health Care (BPHC). HRSA uses the following application forms to administer and manage the FQHCs. These application forms are used by new and existing FQHCs to apply for grant and non-grant opportunities, renew their grant or non-grant opportunities or change their scope of project.

Estimates of annualized reporting burden are as follows:

Type of application form | Number of respondents | Responses per respondent | Total responses | Hours per response | Total burden hours
General Information Worksheet | 1,034 | 1 | 1,034 | 2.0 | 2,068
Planning Grant: General Information Worksheet | 250 | 1 | 250 | 2.5 | 625
BPHC Funding Request Summary | 1,034 | 1 | 1,034 | 2.0 | 2,068
Documents on File | 1,034 | 1 | 1,034 | 1.0 | 1,034
Proposed Staff Profile | 1,034 | 1 | 1,034 | 2.0 | 2,068
Income Analysis Form | 1,034 | 1 | 1,034 | 5.0 | 5,170
Community Characteristics | 1,034 | 1 | 1,034 | 1.0 | 1,034
Health Care Plan (Competing) | 800 | 1 | 1,034 | 4.0 | 4,136
Health Care Plan (Non-Competing) | 1,034 | 1 | 1,034 | 2.0 | 2,068
Business Plan (Competing) | 800 | 1 | 1,034 | 4.0 | 4,136
Business Plan (Non-Competing) | 1,034 | 1 | 1,034 | 2.0 | 2,068
Services Provided | 1,034 | 1 | 1,034 | 1.0 | 1,034
Sites Listing | 1,034 | 1 | 1,034 | 1.0 | 1,034
Other Site Activities | 700 | 1 | 700 | 0.5 | 350
Change In Scope (CIS) Site Add Checklist | 300 | 1 | 300 | 1.0 | 300
CIS Site Delete Checklist | 200 | 1 | 200 | 1.0 | 200
CIS Relocation Checklist | 200 | 1 | 200 | 1.5 | 300
CIS Service Add Checklist | 100 | 1 | 200 | 1.0 | 200
CIS Service Delete Checklist | 100 | 1 | 100 | 1.0 | 100
Board Member Characteristics | 1,034 | 1 | 1,034 | 1.0 | 1,034
Request for Waiver of Governance Requirements | 150 | 1 | 150 | 1.0 | 150
Health Center Affiliation Certification | 250 | 1 | 250 | 1.0 | 250
Need for Assistance | 900 | 1 | 900 | 3.0 | 2,700
Emergency Preparedness Form | 1,034 | 1 | 1,034 | 1.0 | 1,034
Points of Contact | 800 | 1 | 800 | 0.5 | 400
EHR Readiness Checklist | 250 | 1 | 250 | 1.0 | 250
Environmental Information and Documentation (EID) | 400 | 1 | 400 | 2.0 | 800
Assurances | 900 | 1 | 900 | .5 | 450
Equipment List | 900 | 1 | 900 | 1.0 | 900
Other Requirements for Sites | 900 | 1 | 900 | .5 | 450
Total | 1,034 | 1 | 21,876 |  | 38,411

E-mail comments to paperwork@hrsa.gov or mail the HRSA Reports Clearance Officer, Room 10-33, Parklawn Building, 5600 Fishers Lane, Rockville, MD 20857. Written comments should be received within 60 days of this notice.

Dated: March 22,2010.
Sahira Rafiullah,
Director, Division of Policy and Information Coordination.

[FR Doc. 2010-6880 Filed 3-26-10; 8:45 am]

BILLING CODE 4165-15-P